DEPARTMENT OF EDUCATION

Applications for New Awards; Tribally Controlled Postsecondary Career and Technical Institutions Program

AGENCY: Office of Career, Technical, and Adult Education, Department of Education.

ACTION: Notice.

SUMMARY: The Department of Education (Department) is issuing a notice inviting applications for new awards for fiscal year (FY) 2019 for the Tribally Controlled Postsecondary Career and Technical Institutions Program (TCPCTIP), Catalog of Federal Domestic Assistance (CFDA) number 84.245. This notice does not relate to an approved information collection because the number of expected respondents is fewer than nine, making the notice exempt from the Paperwork Reduction Act.

DATES:

Applications Available: June 25, 2019.

Deadline for Notice of Intent to Apply: Applicants are strongly encouraged, but not required, to submit a notice of intent to apply by July 5, 2019.

Deadline for Transmittal of Applications: July 25, 2019.

Pre-Application Webinar Information: For information about a pre-application webinar or potential future webinars, visit the Perkins Collaborative Resource Network (PCRN) at http://cte.ed.gov/.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Gwen Washington, U.S. Department of Education, 400 Maryland Avenue SW, Potomac Center Plaza (PCP), Room 11076, Washington, DC 20202-7241. Telephone: (202) 245-7790. Email: gwen.washington@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: Section 117 of the Carl D. Perkins Career and Technical Education Act of 2006, as amended by the Strengthening Career and Technical Education for the 21st Century Act (Pub. L. 115-224) (Perkins V or the Act), authorizes the Secretary to make grants to Tribally Controlled Postsecondary Career and Technical Institutions ¹ that do not receive Federal support under title I of the Tribally Controlled Colleges and Universities Assistance Act of 1978 (25 U.S.C. 1802, et seq.) or the Navajo Community College Act (Pub. L. 92-189; 85 Stat. 646) for Career and Technical Education programs for Indian students and for the institutional support costs of the grant.

¹ Throughout this notice, all defined terms are denoted with capitals.

Application Requirements: The application requirements are from the Notice of Final Requirements and Definitions—Tribally Controlled Postsecondary Career and Technical Institutions Program (Notice of Final Requirements and Definitions), which was published in the Federal Register on June 4, 2019 (84 FR 25773). All applicants must meet the application requirements in order to be considered for funding.

To receive a TCPCTIP grant, an applicant must include the following in its application:

(a) Documentation showing that the applicant is eligible, according to each of the requirements in the Eligible Applicants section of this notice (and pursuant to section 117(a) and (d) of Perkins V), including meeting the definition of the terms “Tribally Controlled Postsecondary Career and Technical Institution” and “Institution of Higher Education” (e.g., proof of the institution's accreditation status) and certification that the institution does not receive Federal support under the Tribally Controlled College or University Assistance Act of 1978 (25 U.S.C. 1801, et seq.) or the Navajo Community College Act (Pub. L. 92-189; 85 Stat. 646).

(b) Descriptions of the Career and Technical Education programs, including academic courses, to be supported under the proposed TCPCTIP project. Projects funded under this competition must propose organized educational activities that meet the definition of Career and Technical Education, as that term is defined in section 3(5) of the Act.

(c) The estimated number of students to be served by the proposed project in each Career and Technical Education program in each year of the project.

(d) Goals and objectives for the proposed project, including how the attainment of the goals and objectives would further Tribal economic development plans, if any.

(e) A detailed budget identifying the costs to be paid with funds under this program for each year of the project period, and resources available from other Federal, State, and local sources, including any student financial aid, that will be used to achieve the goals and objectives of the proposed project.

(f) A description of the procedure the applicant intends to use to determine student eligibility for Stipends and stipend amounts, and its oversight procedures for the awarding and payment of Stipends.

Program Requirements: The program requirements are from the Act and the Notice of Final Requirements and Definitions.

Program Requirement 1—Uses of Funds.

(a) Funds made available under this program must be used for Career and Technical Education programs for Indian Students and for the Institutional Support Costs of the grant, including the following expenses—

(1) The maintenance and operation of the program, including development costs, costs of basic and special instruction (including special programs for individuals with disabilities and academic instruction), materials, student costs, administrative expenses, boarding costs, transportation, student services, daycare and family support programs for students and their families (including contributions to the costs of education for dependents), and student stipends;

(2) Capital expenditures, including operations and maintenance, minor improvements and repair, and physical plant maintenance costs, for the conduct of programs funded under this section;

(3) Costs associated with repair, upkeep, replacement, and upgrading of the instructional equipment; and

(4) Institutional Support of Career and Technical Education. (20 U.S.C. 2327(b) and (e))

Program Requirement 2—Student Stipends.

(a) Stipends may be paid to enable students to participate in a TCPCTIP Career and Technical Education program.

(1) To be eligible for a Stipend, a student must—

(i) Be enrolled in a Career and Technical Education project funded under this program;

(ii) Be in regular attendance in a TCPCTIP project and meet the training institution's attendance requirement;

(iii) Maintain satisfactory progress in his or her program of study according to the training institution's published standards for satisfactory progress; and

(iv) Have an acute economic need that prevents participation in a project funded under this program without a Stipend and that cannot be met through a work-study program.

(b) The amount of a Stipend is based on the greater of either the minimum hourly wage prescribed by State or local law or the minimum hourly wage established under the Fair Labor Standards Act.

(c) A grantee may only award a Stipend if the Stipend combined with other resources the student receives does not exceed the student's financial need. A “student's financial need” is the difference between the student's cost of attendance and the financial aid or other resources available to defray the student's cost of participating in a TCPCTIP project.

(d) To calculate the amount of a student Stipend, a grantee would multiply the number of hours a student actually attends Career and Technical Education instruction by the greater of the amount of the minimum hourly wage that is prescribed by State or local law or by the minimum hourly wage that is established under the Fair Labor Standards Act.

Example: If a grantee uses the Fair Labor Standards Act minimum hourly wage of $7.25 and a student attends classes for 20 hours a week, the student's Stipend would be $145 for the week during which the student attends classes ($7.25 × 20 = $145).

(e) Grantees must maintain records that fully support their decisions to award Stipends and the amounts that are paid, such as proof of a student's enrollment in a TCPCTIP, Stipend applications, timesheets showing the number of attendance hours confirmed in writing by an instructor, student financial status information, and evidence that a student would not be able to participate in the TCPCTIP project without a Stipend. (20 U.S.C. 1232f; 34 CFR 75.700-75.702, 75.730, and 75.731)

(f) An eligible student may receive a Stipend when taking a course for the first time. However, a Stipend may not be provided to a student who has already taken, completed, and had the opportunity to benefit from a course and is merely repeating the course.

Definitions: The definitions of Career and Technical Education, Indian, Indian Student Count, Indian Tribe, and Tribally Controlled Postsecondary Career and Technical Institution are from sections 3 and 117(h) of Perkins V. The definition of Institution of Higher Education is from section 101 of the Higher Education Act of 1965, as amended (HEA), because Perkins V adopted the HEA definition. The definition of Recognized Postsecondary Credential is from section 3 of the Workforce Innovation and Opportunity Act (WIOA) (29 U.S.C. 3102), because Perkins V adopted the WIOA definition. The definitions of Institutional Support of Career and Technical Education and Stipend are from the Notice of Final Requirements and Definitions.

Career and Technical Education means organized educational activities that—

(a) Offer a sequence of courses that—

(1) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the Elementary and Secondary Education Act of 1965 (ESEA);

(2) Provides technical skill proficiency or a Recognized Postsecondary Credential which may include an industry-recognized credential, a certificate, or an associate degree; and

(3) May include prerequisite courses (other than a remedial course) that meet the requirements of this subparagraph;

(b) Include competency-based, work-based, or other applied learning that supports the development of academic knowledge, higher-order reasoning and problem-solving skills, work attitudes, employability skills, technical skills, and occupation-specific skills, and knowledge of all aspects of an industry, including entrepreneurship, of an individual;

(c) To the extent practicable, coordinate between secondary and postsecondary education programs through programs of study, which may include coordination through articulation agreements, early college high school programs, dual or concurrent enrollment program opportunities, or other credit transfer agreements that provide postsecondary credit or advanced standing; and

(d) May include career exploration at the high school level or as early as the middle grades (as such term is defined in section 8101 of the ESEA) (20 U.S.C. 2302(5)).

Indian means a person who is a member of an Indian Tribe, as defined in section 2 of the Tribally Controlled College or University Assistance Act of 1978 (20 U.S.C. 2327(h)(1); 25 U.S.C. 1801).

Indian Student Count means a number equal to the total number of Indian students enrolled in each tribally controlled postsecondary career and technical institution, as determined in accordance with the following:

(a) Enrollment. For each academic year, the Indian student count must be determined on the basis of the enrollments of Indian students as in effect at the conclusion of—

(1) In the case of the fall term, the third week of the fall term; and

(2) In the case of the spring term, the third week of the spring term.

(b) Calculation. For each academic year, the Indian student count for a tribally controlled postsecondary career and technical institution must be the quotient obtained by dividing the sum of the credit hours of all Indian students enrolled in the tribally controlled postsecondary career and technical institution by 12.

(c) Summer Term. Any credit earned in a class offered during a summer term must be counted in the determination of the Indian student count for the succeeding fall term.

(d) Students Without Secondary School Degrees.

(1) A credit earned at a tribally controlled postsecondary career and technical institution by any Indian student who has not obtained a secondary school degree (or the recognized equivalent of such a degree) must be counted toward the determination of the Indian student count if the institution at which the student is enrolled has established criteria for the admission of the student on the basis of the ability of the student to benefit from the education or training of the institution.

(2) The institution must be presumed to have established the criteria described in paragraph (d)(1) of this definition if the admission procedures for the institution include counseling or testing that measures the aptitude of a student to complete successfully a course in which the student is enrolled.

(3) No credit earned by an Indian student for the purpose of obtaining a secondary school degree (or the recognized equivalent of such a degree) may be counted toward the determination of the Indian student count.

(e) Continuing Education Programs. Any credit earned by an Indian student in a continuing education program of a tribally controlled postsecondary career and technical institution must be included in the determination of the sum of all credit hours of the student if the credit is converted to a credit-hour basis in accordance with the system of the institution for providing credit for participation in the program (20 U.S.C. 2327(h)(2)).

Indian Tribe means any Indian Tribe, band, nation, or other organized group or community, including any Alaskan Native village or regional or village corporation as defined in or established pursuant to the Alaskan Native Claims Settlement Act (43 U.S.C. 1601 et seq.), that is recognized as eligible for the special programs and services provided by the United States to Indians because of their status as Indians (20 U.S.C. 2327(h)(1); 25 U.S.C. 1801(a)(2)).

Institution of Higher Education means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a two-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes—

(1) Any school that provides not less than a one-year program of training to prepare students for gainful employment in a recognized occupation and that meets the provisions of paragraphs (1), (2), (4) and (5) of subsection (a) of this definition; and

(2) A public or nonprofit private educational institution in any State that, in lieu of the requirement in subsection (a)(1) of this definition, admits as regular students individuals—

(A) Who are beyond the age of compulsory school attendance in the State in which the institution is located; or

(B) Who will be dually or concurrently enrolled in the institution and a secondary school (20 U.S.C. 1001; 20 U.S.C. 2302(30)).

Institutional Support of Career and Technical Education means administrative expenses incurred by an eligible institution that are related to conducting a Career and Technical Education program for Indian students that is assisted under section 117 of the Act and administering a grant awarded under section 117 (Notice of Final Requirements and Definitions).

Recognized Postsecondary Credential means a credential consisting of an industry-recognized certificate or certification, a certificate of completion of an apprenticeship, a license recognized by the State involved or Federal Government, or an associate or baccalaureate degree (20 U.S.C. 2302(43); 29 U.S.C. 3102(52)).

Stipend means a subsistence allowance for a student that is necessary for the student to participate in a project funded under this program (Notice of Final Requirements and Definitions).

Tribally Controlled Postsecondary Career and Technical Institution means an Institution of Higher Education (as defined in section 101 of the Higher Education Act of 1965, except that subsection (a)(2) of such section shall not be applicable and the reference to Secretary in subsection (a)(5) of such section shall be deemed to refer to the Secretary of the Interior) that—

(a) Is formally controlled, or has been formally sanctioned or chartered, by the governing body of an Indian Tribe or Tribes;

(b) Offers a technical degree or certificate granting program;

(c) Is governed by a board of directors or trustees, a majority of whom are Indians;

(d) Demonstrates adherence to stated goals, a philosophy, or a plan of operation, that fosters individual Indian economic and self-sufficiency opportunity, including programs that are appropriate to stated Tribal goals of developing individual entrepreneurships and self-sustaining economic infrastructures on reservations;

(e) Has been in operation for at least three years;

(f) Holds accreditation with or is a candidate for accreditation by a nationally recognized accrediting authority for postsecondary career and technical education; and

(g) Enrolls the full-time equivalent of not less than 100 students, of whom a majority are Indians. (20 U.S.C. 2302(52)).

Program Authority: Section 117 of Perkins V (20 U.S.C. 2327).

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Notice of Final Requirements and Definitions.

II. Award Information

Type of Award: Discretionary grants.

Estimated Available Funds: $9,468,000.

Contingent upon the availability of funds and the quality of applications, we may make additional awards in FY 2020 and subsequent years from the list of unfunded applications from this competition.

Estimated Range of Awards: $3,000,000 to $6,000,000 for the first 12 months.

Estimated Average Size of Awards: $4,734,000.

Estimated Number of Awards: 2.

Note: The Department is not bound by any estimates in this notice.

Project Period: Up to 60 months.

Grant Award Amounts if Appropriated Funds Are Not Sufficient: Pursuant to section 117(c)(1) and (2) of Perkins V (20 U.S.C. 2327(c)(1) and (2)), if the sums appropriated for any fiscal year for grants under this program are not sufficient to pay in full the total amount which approved applicants are eligible to receive under this program for such fiscal year, we shall first allocate to each such applicant who received funds under this program for the preceding fiscal year an amount equal to 100 percent of the product of the per capita payment for the preceding fiscal year and such applicant's Indian Student Count for the current program year, plus an amount equal to the actual cost of any increase to the per capita figure resulting from inflationary increases to necessary costs beyond the institution's control. The per capita payment for any fiscal year shall be determined by dividing the amount available for grants to Tribally Controlled Postsecondary Career and Technical Institutions under this program for such program year by the sum of the Indian Student Counts of such institutions for such program year. The Secretary shall, on the basis of the most accurate data available from the institutions, compute the Indian student count for any fiscal year for which such count was not used for the purpose of making allocations.

III. Eligibility Information

1. Eligible Applicants: Any Tribally Controlled Postsecondary Career and Technical Institution is eligible to apply for a grant under this program if it is not receiving Federal support under title I of the Tribally Controlled College or University Assistance Act of 1978 (25 U.S.C. 1802 et seq.), or the Navajo Community College Act (Pub. L. 92-189; 85 Stat. 646).

2. a. Cost Sharing or Matching: This program does not require cost sharing or matching.

b. Supplement-Not-Supplant: This program involves supplement-not-supplant funding requirements. (20 U.S.C. 2391(a))

3. Other Indirect Costs: Institutions receiving grants under this program will not be required to use a restricted indirect cost rate. (20 U.S.C. 2327(c)(3))

4. Subgrantees: A grantee under this competition may not award subgrants to entities to directly carry out project activities described in its application.

IV. Application and Submission Information

1. Application and Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is not subject to Executive Order 12372 and the regulations in 34 CFR part 79.

3. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from 34 CFR 75.210 and, consistent with 34 CFR 75.209, from statutory provisions that apply to the program. The maximum score for all of the selection criteria is 100 points. The maximum score for each criterion and factor is indicated in parentheses. The selection criteria for this competition are as follows:

(a) Quality of the Project Design and Project Services (up to 30 points). (1) The Secretary considers the quality of the design of the proposed project and the quality of the services to be provided by the proposed project.

(2) In determining the quality of the services to be provided by the proposed project, the Secretary considers the quality and sufficiency of strategies for ensuring equal access and treatment for eligible project participants who are members of groups that have traditionally been underrepresented based on race, color, national origin, gender, age, or disability (up to 5 points) (34 CFR 75.210(d)(2)).

(3) In addition, the Secretary considers the following factors:

(i) The extent to which the goals, objectives, and outcomes to be achieved by the proposed project are clearly specified and measurable (up to 5 points) (34 CFR 75.210 (c)(2)(i)).

(ii) The extent to which the proposed project will promote the development of services and activities that integrate rigorous and challenging academic and career and technical instruction, and that link secondary education and postsecondary education for participating career and technical education students (up to 5 points) (20 U.S.C. 2301 (2)).

(iii) The likelihood that the service to be provided by the proposed project will lead to improvements in the skills necessary to gain employment or build capacity for independent living (up to 5 points) (34 CFR 75.210(d)(3) (viii)).

(iv) The extent to which the proposed project will increase efficiency in the use of time, staff, money, or other resources in order to improve results and increase productivity (up to 5 points) (34 CFR 75.210(c)(2)(xxvi)).

(v) The extent to which the proposed project will provide professional development activities that are an integral part of the institution's strategies for providing educators with the knowledge and skills necessary to enable students to succeed in Career and Technical Education and to achieve academic skills at the postsecondary level and are sustained (not stand-alone, 1-day, or short-term workshops), intensive collaborative, job-embedded, data-driven, and classroom-focused, to the extent practicable evidence-based (5 points) (20 U.S.C. 2302(40)).

(b) Quality of the Management Plan (up to 25 points).

(1) The Secretary considers the quality of the management plan for the proposed project.

(2) In determining the quality of the management plan for the proposed project, the Secretary considers the following factors:

(i) The adequacy of the management plan to achieve the objectives of the proposed project on time and within budget, including clearly defined responsibilities, timelines, and the milestones for accomplishing project tasks (up to 15 points) (34 75.210 (g)(2)(i)).

(ii) The extent to which the time commitments of the project director and principal investigator and other key project personnel are appropriate and adequate to meet the objectives of the proposed project (up to 10 points) (34 75.210(g)(2)(iv)).

(c) Quality of Project Personnel (up to 15 points).

(1) The Secretary considers the quality of the personnel who will carry out the proposed project.

(2) In determining the quality of project personnel, the Secretary considers the extent to which the applicant encourages applications for employment from persons who are members of groups that have traditionally been underrepresented based on race, color, national origin, gender, age, or disability (up to 5 points) (34 CFR 75.210 (e)(2)).

(3) In addition, the Secretary considers the qualifications, including relevant training and experience, of the project director, other key personnel, and project consultants (up to 10 points) (34 CFR 75.210(e)(3)(i), (ii), and (iii)).

(d) Adequacy of Resources (up to 10 points). (1) The Secretary considers the adequacy of resources for the proposed project.

(2) In determining the adequacy of resources for the proposed project, the Secretary considers the following factors:

(i) The adequacy of support, including facilities, equipment, supplies, and other resources, from the applicant organization or the lead applicant organization (up to 5 points) (34 CFR 75.210(f)(2)(i)).

(ii) The extent to which the budget is adequate to support the proposed project (up to 5 points) (34 CFR 75.210(f)(2)(iii)).

(e) Quality of the Project Evaluation (up to 20 points). (1) The Secretary considers the quality of the evaluation to be conducted of the proposed project.

(2) In determining the quality of the evaluation, the Secretary considers the following factors:

(i) The extent to which the methods of evaluation proposed by the grantee are thorough, feasible, and appropriate to the goals, objectives, and outcomes of the proposed project (up to 5 points) (34 CFR 75.210 (h)(2)(i)).

(ii) The extent to which the methods of evaluation include the use of objective performance measures that are clearly related to the intended outcomes of the project and will produce quantitative and qualitative data to the extent possible (up to 5 points) (34 CFR 75.210 (h)(2)(iv)).

(iii) The extent to which the methods of evaluation will provide performance feedback and permit periodic assessment of progress toward achieving intended outcomes (up to 5 points) (34 CFR 75.210(h)(2)(vi)).

(iv) The qualifications, including relevant training, experience, and independence, of the evaluator (up to 5 points) (34 CFR 75.210(h)(2)(xii)).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: (a) If your application is successful, we notify your U.S. Representative and U.S. Senators and send you a Grant Award Notification (GAN). We may notify you informally, also.

(b) If your application is not evaluated or not selected for funding, we notify you.

(c) Pursuant to section 117(g) of Perkins V, in 2007, the Department established, after consultation with Tribally Controlled Postsecondary Career and Technical Institutions, a complaint resolution procedure for grant determinations and calculations made under this program. The complaint resolution procedure is posted on the PCRN at https://cte.ed.gov/grants/tribally-controlled-postsecondary-career-and-technical-institutions-program.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 (GPRA), the Secretary has established the following performance measures for assessing the effectiveness of TCPCTIP:

(a) Number of associate degrees and certificates awarded in Career and Technical Education fields during the preceding school year;

(b) Percent of full-time, first-time degree or certificate-seeking American Indian or Alaska Native undergraduates who graduated within 150 percent of the normal time to program completion;

(c) Percent of full-time, first-time degree or certificate-seeking undergraduates who, within eight years of first enrolling, received a postsecondary award from the institution, remain enrolled at the institution, or who subsequently enrolled at another institution;

(d) Percent of part-time, first-time degree or certificate-seeking undergraduates who, within eight years of first enrolling, received a degree or certificate from the institution, remain enrolled at the institution, or who subsequently enrolled at another institution;

(e) Percent of full-time, non-first-time degree or certificate-seeking undergraduates who, within eight years of first enrolling, received a degree or certificate from the institution, remain enrolled at the institution, or who subsequently enrolled at another institution; and

(f) Percent of part-time, non-first-time degree or certificate-seeking undergraduates who, within eight years of first enrolling, received a degree or certificate from the institution, remain enrolled at the institution, or who subsequently enrolled at another institution.

The use of these indicators for GPRA will relieve reporting burden on TCPCTIP grantees because these indicators are among those that Tribally Controlled Postsecondary Career and Technical Institutions and other institutions of higher education that participate in Federal student aid programs authorized by title IV of HEA now report on annually to the National Center for Education Statistics through the Integrated Postsecondary Education Data System. The Secretary will set GPRA targets and report results separately for each TCPCTIP grantee.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

[FR Doc. 2019-13488 Filed 6-24-19; 8:45 am]

BILLING CODE 4000-01-P